DEPARTMENT OF THE INTERIOR

Office of Hearings and Appeals

[17XD0120OS.DX68201.QAGENLAM.DOTN00000.000000.DS68241000]

Tribal Listening Session; Oklahoma City Probate Hearings Division Field Office

AGENCY: Office of Hearings and Appeals, Interior.

ACTION: Notice.

SUMMARY: The Department of the Interior's (Department) Office of Hearings and Appeals (OHA), Probate Hearings Division (Ph.D.) is responsible for probating Indian trust estates. OHA plans to close the Ph.D. Oklahoma City Field Office at the end of this fiscal year, September 30, 2017. This notice is to inform interested federally recognized tribes, individual Indians, and other interested parties of an upcoming opportunity to share insights and make recommendations regarding how OHA can best maintain its level of service. The agencies and areas served by the Oklahoma City Ph.D. office include Horton, Absentee Shawnee, Anadarko, Cherokee Nation, Chickasaw Nation, Choctaw Nation, Citizen Pottawatomie, Concho, Eastern Oklahoma, Miami, Pawnee, Sac & Fox (except IA), Shawnee, and Southern Plains.

DATES: Written comments must be received by June 30, 2017. Please see the SUPPLEMENTARY INFORMATION section of this notice for the date of the Tribal listening session.

ADDRESSES: You may submit comments by one of the following methods:

• Email: Ph.D.@oha.doi.gov.

• By hard copy: Submit by U.S. mail to Ms. Christine Kelly, Office of Hearings and Appeals, Probate Hearings Division, U.S. Department of the Interior, P.O. Box 26147, Albuquerque, NM 87125; or by hand delivery to: Ms. Christine Kelly, Office of Hearings and Appeals, Probate Hearings Division, U.S. Department of the Interior, 1011 Indian School Road, NW., Room 322, Albuquerque, NM 87104.

Please see the SUPPLEMENTARY INFORMATION section of this notice for information on the Tribal listening session.

FOR FURTHER INFORMATION CONTACT: Ms. Christine Kelly, Office of Hearings and Appeals, Probate Hearings Division, U.S. Department of the Interior, P.O. Box 26147, Albuquerque, NM 87104; telephone—(505) 563-5330; email—Ph.D.@oha.doi.gov.

SUPPLEMENTARY INFORMATION:

The Department will host the Tribal listening session by teleconference on June 22, 2017 from 3:30 p.m. to 6:30 p.m. Central Time. The call-in number is: 1-888-968-4312 and the passcode is: 3839047. The Department will also accept written comments received by the date listed in the DATES section of this notice.

I. Background

PHD serves as the Department's administrative trial court for Indian probate cases. Through formal hearings conducted by Administrative Law Judges and Indian Probate Judges, and summary proceedings conducted by an Attorney Decision Maker, PHD determines the rightful heirs and beneficiaries of decedents who owned property held in trust or restricted title by the United States. PHD determines the validity of wills, decides what claims against the estate will be allowed, and orders distribution of the trust or restricted property to those entitled to receive it.

PHD Headquarters office is located in Albuquerque, New Mexico, and field offices are located in Rapid City, South Dakota, Billings, Montana, Bloomington, Minnesota, Sacramento, California, and Oklahoma City, Oklahoma. In June 2015, the Administrative Law Judge based in the Oklahoma City office retired and all but one employee subsequently left OHA for other opportunities. The remaining employee, now an Indian Probate Judge, continued to serve the Oklahoma City office area, conducting hearings in Oklahoma City and at locations throughout the region depending on where potential heirs reside.

In light of the Administrative Law Judge's retirement and the other staff departures, OHA plans to close the Oklahoma City office. The closure of the office will realize cost savings for the Federal Government and further promote the streamlining of operations. The IPJ will continue to serve the Oklahoma City office area from a home office, and she and other Ph.D. Judges will continue to conduct hearings in Oklahoma City and travel, as appropriate, to other areas served by the Oklahoma City office. OHA will continue to offer telephonic access to hearings so that people who do not live in the local area may participate in the hearings process without incurring travel expenses, if they so choose. OHA's goal is to make participation in probate hearings as convenient as possible and available to the greatest number of interested parties. The primary focus will be to hold in-person hearings locally, when practicable.

Efforts to maintain the level of service have been ongoing since the departure of most of Oklahoma City's employees and will continue even with the closure of the physical office space. OHA is not aware of any complaints that case disposition productivity diminished during this transition, but, through this listening session, Tribes, individual Indians, and interested parties are provided an opportunity to submit insights and recommendations of how OHA can best maintain its level of service in the areas served by the Oklahoma City Ph.D. office.

Authority: 212 DM 13.1

Dated: May 22, 2017.
Janet H. Lin,
Deputy Director—Office of Hearings and Appeals.

[FR Doc. 2017-11186 Filed 5-30-17; 8:45 am]

BILLING CODE 4334-63-P